DEPARTMENT OF TRANSPORTATION

Federal Aviation Administration

14 CFR Part 39

[Docket No. FAA-2009-0130; Directorate Identifier 2008-NM-225-AD; Amendment 39-15817; AD 2009-04-11]

RIN 2120-AA64

Airworthiness Directives; Bombardier Model CL-600-2B19 (Regional Jet Series 100 & 440) Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

The heating capability of several Angle Of Attack (AOA) transducer heating elements removed from in-service aircraft have been found to be below the minimum requirement. Also, it was discovered that a large number of AOA transducers repaired in an approved maintenance facility were not calibrated accurately.

Inaccurate calibration of the AOA transducer and/or degraded AOA transducer heating elements can result in early or late activation of the stall warning, stick shaker and stick pusher by the Stall Protection Computer (SPC).

* * * * *

The unsafe condition is reduced controllability of the airplane. This AD requires actions that are intended to address the unsafe condition described in the MCAI.

DATES: This AD becomes effective March 9, 2009.

The Director of the Federal Register approved the incorporation by reference of a certain publication listed in the AD as of March 9, 2009.

We must receive comments on this AD by March 23, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Wing Chan, Aerospace Engineer, Systems and Flight Test Branch, ANE-172, FAA, New York Aircraft Certification Office, 1600 Stewart Avenue, Suite 410, Westbury, New York 11590; telephone (516) 228-7311; fax (516) 794-5531.

SUPPLEMENTARY INFORMATION:

Discussion

The Transport Canada Civil Aviation (TCCA), which is the aviation authority for Canada, has issued Canadian Airworthiness Directive CF-2008-35, dated December 22, 2008 (referred to after this as “the MCAI”), to correct an unsafe condition for the specified products. The MCAI states:

The heating capability of several Angle Of Attack (AOA) transducer heating elements removed from in-service aircraft have been found to be below the minimum requirement. Also, it was discovered that a large number of AOA transducers repaired in an approved maintenance facility were not calibrated accurately.

Inaccurate calibration of the AOA transducer and/or degraded AOA transducer heating elements can result in early or late activation of the stall warning, stick shaker and stick pusher by the Stall Protection Computer (SPC).

This [Canadian] directive mandates a periodic inspection of the inrush current to verify the AOA heating capability and replacement of the inaccurately calibrated AOA transducers.

The unsafe condition is reduced controllability of the airplane. You may obtain further information by examining the MCAI in the AD docket.

Relevant Service Information

Bombardier has issued Service Bulletin 601R-27-153, Revision A, dated December 16, 2008. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

FAA's Determination of the Effective Date

An unsafe condition exists that requires the immediate adoption of this AD. The FAA has found that the risk to the flying public justifies waiving notice and comment prior to adoption of this rule because the risk of having a degraded transducer is higher with units that have more than 7,500 total flight hours accumulated. Degraded AOA transducers can result in inaccurate activation of the stall warning, stick shaker, or stick pusher, which could result in ineffective response to aerodynamic stall. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2009-0130; Directorate Identifier 2008-NM-225-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-04-11 Bombardier, Inc. (Formerly Canadair): Amendment 39-15817. Docket No. FAA-2009-0130; Directorate Identifier 2008-NM-225-AD.

Effective Date

(a) This airworthiness directive (AD) becomes effective March 9, 2009.

Affected ADs

(b) None.

Applicability

(c) This AD applies to Bombardier Model CL-600-2B19 (Regional Jet Series 100 & 440) airplanes, serial number 7003 and subsequent, certificated in any category, that are equipped with Thales angle of attack (AOA) transducers having part number 45150340 or C16258AA.

Subject

(d) Air Transport Association (ATA) of America Code 27: Flight controls.

Reason

(e) The mandatory continued airworthiness information (MCAI) states:

The heating capability of several Angle Of Attack (AOA) transducer heating elements removed from in-service aircraft have been found to be below the minimum requirement. Also, it was discovered that a large number of AOA transducers repaired in an approved maintenance facility were not calibrated accurately.

Inaccurate calibration of the AOA transducer and/or degraded AOA transducer heating elements can result in early or late activation of the stall warning, stick shaker and stick pusher by the Stall Protection Computer (SPC).

This [Canadian] directive mandates a periodic inspection of the inrush current to verify the AOA heating capability and replacement of the inaccurately calibrated AOA transducers.

The unsafe condition is reduced controllability of the airplane.

Actions and Compliance

(f) Unless already done, do the following actions:

(1) For airplanes equipped with a transducer having accumulated more than 7,500 total flight hours as of the effective date of this AD: Within 250 flight hours after the effective date of this AD, measure the inrush current of both AOA transducers in accordance with Part A of the Accomplishment Instructions of Bombardier Service Bulletin 601R-27-153, Revision A, dated December 16, 2008.

(i) If both AOA transducers are found to have an inrush current of 1.60 amps or more, repeat the measurement thereafter at intervals not to exceed the applicable interval specified in Table 1 of this AD. Do the measurement in accordance with Part A of the Accomplishment Instructions of Bombardier Service Bulletin 601R-27-153, Revision A, dated December 16, 2008.

Table 1—Repetitive Measurement Intervals
If the last inrush current measurement of the serviceable AOA transducer is— | Then repeat the measurement—
More than or equal to 1.90 amps | Within 2,000 flight hours after the last measurement.
More than or equal to 1.80 amps but less than 1.90 amps | Within 1,500 flight hours after the last measurement.
More than or equal to 1.70 amps but less than 1.80 amps | Within 1,000 flight hours after the last measurement.
More than or equal to 1.60 amps but less than 1.70 amps | Within 500 flight hours after the last measurement.

(ii) If one AOA transducer is found to have an inrush current below 1.60 amps, and the other AOA transducer is found to have an inrush current of 1.60 amps or more: Do the actions required by paragraphs (f)(1)(ii)(A) and (f)(1)(ii)(B) of this AD.

(A) For the AOA transducer having an inrush current of 1.60 amps or more: Repeat the measurement thereafter at intervals not to exceed the applicable interval specified in Table 1 of this AD. Do the measurement in accordance with Part A of the Accomplishment Instructions of Bombardier Service Bulletin 601R-27-153, Revision A, dated December 16, 2008.

(B) For the AOA transducer having an inrush current below 1.60 amps (“degraded” transducer): Within 1,000 flight hours after the effective date of this AD, replace that transducer in accordance with Part C of the Accomplishment Instructions of Bombardier Service Bulletin 601R-27-153, Revision A, dated December 16, 2008. At the applicable time specified in Table 1 of this AD if the degraded transducer was replaced with a serviceable transducer, or within 2,000 flight hours after replacement if the degraded transducer was replaced with a new transducer, do the measurement for that replacement transducer and repeat the measurements thereafter at intervals not to exceed the applicable interval specified in Table 1 of this AD. Do the measurement in accordance with Part A of the Accomplishment Instructions of Bombardier Service Bulletin 601R-27-153, Revision A, dated December 16, 2008.

(iii) If both AOA transducers are found to have an inrush current below 1.60 amps, do the action specified in paragraph (f)(1)(iii)(A) or (f)(1)(iii)(B) of this AD.

(A) Before further flight, replace one of the degraded AOA transducers with a new or serviceable transducer; and replace the other degraded transducer with a new or serviceable transducer within 1,000 flight hours after the measurement required by paragraph (f)(1) of this AD; in accordance with Part C of the Accomplishment Instructions of Bombardier Service Bulletin 601R-27-153, Revision A, dated December 16, 2008. At the applicable time specified in Table 1 of this AD, if the degraded transducer was replaced with a serviceable transducer; or within 2,000 flight hours after replacement if the degraded transducer was replaced with a new transducer: Do the measurement for that replacement transducer and repeat the measurement thereafter at intervals not to exceed the applicable interval specified in Table 1 of this AD. Do the measurements in accordance with Part A of the Accomplishment Instructions of Bombardier Service Bulletin 601R-27-153, Revision A, dated December 16, 2008.

(B) Within 1,000 flight hours after the measurement required by paragraph (f) of this AD, replace both degraded AOA transducers with new or serviceable transducers in accordance with Part C of the Accomplishment Instructions of Bombardier Service Bulletin 601R-27-153, Revision A, dated December 16, 2008. Until the replacement is done, dispatch with two degraded AOA transducers is allowed, provided that the applicable Limitations section of the airplane flight manual (AFM) is revised to include the following statement or a copy of this AD is inserted into the applicable Limitations section of the AFM.

“Dispatch is allowed if:

(a) Operations are not conducted in visible moisture (including standing water and slush) in any form,

(b) Operations are not conducted in known or forecast icing conditions,

(c) Both Ice Detection Systems are operative; and,

(d) Operations are conducted in day VMC conditions only.”

After the replacement has been accomplished, the statement or the copy of this AD may be removed from the AFM. At the applicable time specified in Table 1 of this AD, if the degraded transducer was replaced with a serviceable transducer; or within 2,000 flight hours after replacement with a new transducer: Do the measurement for that replacement transducer and repeat the measurement thereafter at intervals not to exceed the applicable interval specified in Table 1 of this AD. Do the measurement in accordance with Part A of Accomplishment Instructions of Bombardier Service Bulletin 601R-27-153, Revision A, dated December 16, 2008.

(2) If, during any repetitive measurement required by paragraphs (f)(1)(i), (f)(1)(ii), and (f)(1)(iii) of this AD, any AOA transducer is found to have an inrush current below 1.60 amps, before further flight, replace that transducer in accordance with Part C of the Accomplishment Instructions of Bombardier Service Bulletin 601R-27-153, Revision A, dated December 16, 2008. At the applicable time specified in Table 1 of this AD, if the degraded transducer was replaced with a serviceable transducer; or within 2,000 flight hours after replacement if the degraded transducer was replaced with a new transducer: Do the measurement for that replacement transducer as specified in paragraph (f)(1)(ii)(B) of this AD and repeat the measurement thereafter at intervals not to exceed the applicable interval specified in Table 1 of this AD.

(3) Actions done before the effective date of this AD in accordance with Bombardier Service Bulletin 601R-27-153, dated October 17, 2008, are acceptable for compliance with the corresponding requirements of paragraphs (f)(1) and (f)(2) of this AD.

FAA AD Differences

Note 1: This AD differs from the MCAI and/or service information as follows: This AD does not require the following actions specified in the MCAI: the one-time inspection for serial numbers and on-condition replacement in Paragraph 1. of the MCAI, and the initial inspection compliance times for transducers with 7,500 or fewer flight hours as of the effective date of this AD in Paragraph 2. of the MCAI. The planned compliance times for those actions would allow enough time to provide notice and opportunity for prior public comment on the merits of those actions. Therefore, we are considering further rulemaking to address this issue.

Other FAA AD Provisions

(g) The following provisions also apply to this AD:

(1) Alternative Methods of Compliance (AMOCs): The Manager, New York Aircraft Certification Office (ACO), FAA, has the authority to approve AMOCs for this AD, if requested using the procedures found in 14 CFR 39.19. Send information to ATTN: Wing Chan, Aerospace Engineer, Systems and Flight Test Branch, ANE-172, FAA, New York Aircraft Certification Office, 1600 Stewart Avenue, Suite 410, Westbury, New York 11590; telephone (516) 228-7311; fax (516) 794-5531. Before using any approved AMOC on any airplane to which the AMOC applies, notify your principal maintenance inspector (PMI) or principal avionics inspector, as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI Canadian Airworthiness Directive CF-2008-35, dated December 22, 2008; and Bombardier Service Bulletin 601R-27-153, Revision A, dated December 16, 2008; for related information.

Material Incorporated by Reference

(i) You must use Bombardier Service Bulletin 601R-27-153, Revision A, dated December 16, 2008, to do the actions required by this AD, unless the AD specifies otherwise.

(1) The Director of the Federal Register approved the incorporation by reference of this service information under 5 U.S.C. 552(a) and 1 CFR part 51.

(2) For service information identified in this AD, contact Bombardier, Inc., 400 Côte-Vertu Road West, Dorval, Quebec H4S 1Y9, Canada; telephone 514-855-5000; fax 514-855-7401; e-mail thd.crj@aero.bombardier.com; Internet http://www.bombardier.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on February 5, 2009.
Ali Bahrami,
Manager, Transport Airplane Directorate, Aircraft Certification Service.

[FR Doc. E9-3262 Filed 2-19-09; 8:45 am]

BILLING CODE 4910-13-P